LIBRARY OF CONGRESS

Copyright Office

[Docket No. PA 2004-1]

Notice of New Delivery Policy

AGENCY: Copyright Office, Library of Congress.

ACTION: New procedure for hand deliveries to Copyright Office General Counsel by private parties.

SUMMARY: The Copyright Office is adopting a new policy for delivering documents to the Office of the General Counsel.

EFFECTIVE DATE: February 9, 2004.

ADDRESSES: Hand deliveries for the Office of the General Counsel made by private parties must be delivered to the following location in the Library of Congress: Public Information Office, U.S. Copyright Office, James Madison Memorial Building, Room LM-401, 101 Independence Avenue, SE., Washington, DC 20559-6000.

FOR FURTHER INFORMATION CONTACT: Tanya M. Sandros, Senior Attorney, Telephone: (202) 707-8380.

SUPPLEMENTARY INFORMATION: Beginning February 9, 2004, all hand deliveries from private parties ¹ for the Copyright Office General Counsel, including all comments in rulemaking proceedings, all filings in a Copyright Arbitration Royalty Panel proceeding, and all litigation-related materials, must be delivered to the Public Information Office of the Copyright Office. The Public Information Office is located on the fourth floor of the James Madison Memorial Building of the Library of Congress, Room LM-401, 101 Independence Avenue, SE., Washington, DC, near the Capitol South Metro stop. The Office is open Monday-Friday, 8:30 a.m. to 5 p.m., except Federal holidays.

¹ Hand deliveries made by commercial couriers and messengers may no longer be made directly to the Library of Congress. See 68 FR 70039 (Dec. 16, 2003). As of December 29, 2003, commercial couriers and messengers must deliver all materials for the Library of Congress to the Congressional Courier Acceptance Site (“CCAS”), located on Second and D Streets, NE. The CCAS will accept items from couriers with proper identification, e.g., a valid driver's license, Monday through Friday between 8:30 a.m. and 4 p.m.

To insure that each document is directed to the appropriate office within the Copyright Office, documents for delivery to the General Counsel should be addressed in the following manner: Office of the General Counsel, U.S. Copyright Office, James Madison Memorial Building, Room LM-401, First and Independence Avenue, SE., Washington, DC 20559-6000.

Visitors to the Library of Congress are reminded that they must follow certain security procedures upon entry and exit. These procedures may be found on the Copyright Office Web site at http://www.loc.gov/rr/security/.

Dated: January 30, 2004.
Marilyn J. Kretsinger,
Associate General Counsel.

[FR Doc. 04-2289 Filed 2-3-04; 8:45 am]

BILLING CODE 1410-30-P